DEPARTMENT OF COMMERCE

International Trade Administration

[C-570-971]

Multilayered Wood Flooring From the People's Republic of China: Alignment of Final Countervailing Duty Determination With Final Antidumping Duty Determination

AGENCY: Import Administration, International Trade Administration, Department of Commerce.

SUMMARY: The Department of Commerce (the “Department”) is aligning the final determination in this countervailing duty investigation of multilayered wood flooring (“wood flooring”) from the People's Republic of China (“PRC”) with the final determination in the companion antidumping duty investigation.

DATES: Effective Date: May 9, 2011.

FOR FURTHER INFORMATION CONTACT: Shane Subler, Matthew Jordan, Joshua Morris, or Patricia Tran, AD/CVD Operations, Office 1, Import Administration, International Trade Administration, U.S. Department of Commerce, 14th Street and Constitution Avenue, NW., Washington, DC 20230; telephone: (202) 482-0189, (202) 482-1540, (202) 482-1779, or (202) 482-1503, respectively.

SUPPLEMENTARY INFORMATION:

Background

On November 18, 2010, the Department simultaneously initiated antidumping and countervailing duty investigations of wood flooring from the PRC. See Multilayered Wood Flooring from the People's Republic of China: Initiation of Countervailing Duty Investigation, 75 FR 70719 (November 18, 2010) and Multilayered Wood Flooring From the People's Republic of China: Initiation of Antidumping Duty Investigation, 75 FR 70714 (November 18, 2010).

On April 6, 2011, the Department published the preliminary affirmative countervailing duty determination pertaining to wood flooring from the PRC. See Multilayered Wood Flooring From the People's Republic of China: Preliminary Affirmative Countervailing Duty Determination, 76 FR 19034 (April 6, 2011). On April 4, 2011, the petitioner (the Coalition for American Hardwood Parity) requested alignment of the final countervailing duty determination with the final determination in the companion antidumping duty investigation of wood flooring from the PRC, in accordance with 19 CFR 351.210(b)(4)(i) and 19 CFR 351.210(i). This request was timely made.

Therefore, in accordance with section 705(a)(1) of the Tariff Act of 1930, as amended (“the Act”), and 19 CFR 351.210(b)(4), we are aligning the final countervailing duty determination of wood flooring from the PRC with the final determination in the companion antidumping duty investigation of wood flooring from the PRC. The final countervailing duty determination will be issued on the same date as the final antidumping duty determination, which is currently scheduled for August 2, 2011.

This notice is issued and published pursuant to section 705(a)(1) of the Act.

Dated: May 3, 2011.
Ronald K. Lorentzen,
Deputy Assistant Secretary for Import Administration.

[FR Doc. 2011-11254 Filed 5-6-11; 8:45 am]

BILLING CODE 3510-DS-P